DEPARTMENT OF JUSTICE

Drug Enforcement Administration

[Docket No. 03-27]

Paramabaloth Edwin, M.D.; Revocation of Registration

On April 24, 2003, the Deputy Administrator of the Drug Enforcement Administration (DEA), issued an Order to Show Cause/Immediate Suspension of Registration to Paramabaloth Edwin, M.D. (Dr. Edwin), notifying him of an opportunity to show cause as to why DEA should not revoke his DEA Certificate of Registration, AE7528295, as a practitioner, and deny any pending applications for renewal of registration pursuant to 21 U.S.C. 824(a)(4), for reason that Dr. Edwin's continued registration would be inconsistent with the public interest. The Order to Show Cause/Immediate Suspension of Registration further advised Dr. Edwin that his DEA Certification of Registration had been suspended, pursuant to 21 U.S.C. 824(d), as an imminent danger to public health and safety.

The Order to Show Cause/Immediate Suspension of Registration alleged, in part, that in August 2001, DEA had received information from a cooperating source that Dr. Edwin was selling and prescribing controlled substances for non-therapeutic uses. This information was corroborated by interviews of former patients, pharmacists and acquaintances of Dr. Edwin, as well as through a cooperating individual who purchased controlled substances from Dr. Edwin. It further alleged Dr. Edwin had purchased excessive quantities of controlled substances, stored controlled substances at an unregistered location and that his prescribing practices had hastened the addiction and/or death of patients.

Finally, it was alleged that on April 17, 2003, the Illinois Department of Professional Regulations (IDPR) summarily suspended Dr. Edwin's state medical and controlled substance licenses, thus rendering him without state authority to handle controlled substances.

By letter dated May 21, 2003, Dr. Edwin, through counsel, requested a hearing and on May 29, 2003, Presiding Administrative Law Judge Mary Ellen Bittner (Judge Bittner) ordered the parties to file prehearing statements. On June 13, 2003, in lieu of filing a prehearing statement, the Government filed a Motion for Summary Disposition, asserting Dr. Edwin was without authorization to handle controlled substances in the State of Illinois and as a result, further proceedings in the matter were not required. Attached to the Government's motion was a copy of the IDPR's Order dated April 17, 2003, directing Dr. Edwin to “immediately surrender all indicia of licensure to the Department.”

On June 16, 2003, Judge Bittner issued a Memorandum to the Parties affording Dr. Edwin an opportunity to respond to the Government's motion. In his response, Dr. Edwin argued it would violate due process to summarily dispose of the case premised on the IDPR's Order, which, according to Dr. Edwin, was “based on mere allegations, which have not yet been tested.” Dr. Edwin further argued there had been no hearings before the IDPR in which he had been afforded a chance to present evidence or rebut the allegations against him. However, Dr. Edwin did not deny that his state professional licenses had been surrendered.

On July 18, 2003, Judge Bittner issued the Opinion and Recommended Decision of the Administrative Law Judge (Opinion and Recommended Decision). As part of her recommended ruling, Judge Bittner granted the Government's Motion for Summary Disposition, finding Dr. Edwin lacked authorization to handle controlled substances in Illinois, the jurisdiction in which he is registered with DEA.

In granting the Government's motion, Judge Bittner further recommended that Dr. Edwin's DEA registration be revoked and any pending applications for modification or renewal be denied. No exceptions to the Opinion and Recommended Decision were filed.

The Deputy Administrator has considered the record in its entirety and pursuant to 21 CFR 1316.67, hereby issues her final order based upon findings of fact and conclusions of law as hereinafter set forth. The Deputy Administrator adopts, in full, the Opinion and Recommended Decision of the Administrative Law Judge.

The Deputy Administrator finds that Dr. Edwin currently possesses DEA Certificate of Registration AE7528295, and is registered to handle controlled substances in the State of Illinois. The Deputy Administrator further finds that in response to allegations of professional misconduct, on April 17, 2003, the IDPR issued an order directing Dr. Edwin to surrender all professional licenses. There is no evidence before the Deputy Administrator that IDPR's Order has been lifted, stayed or modified. Therefore, the Deputy Administrator finds that Dr. Edwin is currently not licensed to practice medicine in Illinois and as a result, it is reasonable to infer he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Stephen J. Graham, M.D., 69 FR 11661 (2004); Dominick A. Ricci, M.D., 58 FR 51104 (1993); Bobby Watts, M.D., 53 FR 11919 (1988). Revocation is also appropriate when a state license has been suspended, but with the possibility of future reinstatement. See Alton E. Ingram, Jr., M.D., 69 FR 22562 (2004); Anne Lazar Thorn, M.D., 62 FR 847 (1997).

Here, it is clear Dr. Edwin is not currently licensed to handle controlled substances in Illinois, where he is registered with DEA. Therefore, he is not entitled to maintain that registration. Because Dr. Edwin is not entitled to a DEA registration in Illinois due to lack of state authorization to handle controlled substances, the Deputy Administrator concludes it is unnecessary to address whether Dr. Edwin's registration should be revoked based upon the remaining public interest grounds asserted in the Order to Show Cause/Immediate Suspension of Registration. See Fereida Walker-Graham, M.D., 68 FR 24761 (2003); Nathaniel-Aikens-Afful, M.D., 69 FR 16871 (1997); Sam F. Moore, D.V.M., 58 FR 14428 (1993).

Accordingly, the Deputy Administrator of the Drug Enforcement Administration, pursuant to the authority vested in her by 21 U.S.C. 823 and 824 and 28 CFR 0.100(b) and 0.104, hereby orders that DEA Certificate of Registration, AE7528295, issued to Paramabaloth Edwin, M.D., be, and it hereby is, revoked. The Deputy Administrator further orders that any pending applications for renewal or modification of such registration be, and they hereby are, denied. This order is effective November 1, 2004.

Dated: September 13, 2004.
Michele M. Leonhart,
Deputy Administrator.

[FR Doc. 04-21967 Filed 9-29-04; 8:45 am]

BILLING CODE 4410-09-M